DEPARTMENT OF AGRICULTURE

Notice of the Draft Environmental Assessment for the Subtropical Agricultural Research Station Land Transfer

AGENCY: Agricultural Research Service, USDA.

ACTION: Notice and request for comments.

SUMMARY: In accordance with the National Environmental Policy Act (NEPA) of 1969, as amended, and the Federal Land Policy and Management Act of 1976 (FLPMA), as amended, a Draft Environmental Assessment (EA) has been prepared to evaluate the proposed transfer of approximately 3,800 acres of land at the U.S. Department of Agriculture (USDA) Agricultural Research Service (ARS) Subtropical Agricultural Research Station (STARS) in Brooksville, Florida to Florida Agricultural and Mechanical University (FAMU). This notice is announcing the opening of a 30-day public comment period.

DATES: Comments must be received on or before April 1, 2015.

ADDRESSES: You may submit written comments related to the STARS Land Transfer to Cal Mather, Environmental Protection Specialist, USDA-ARS-SHEMB, by any of the following methods: Mail: NCAUR, 1815 North University Street, Room 2060, Peoria, Illinois 61604; FAX: 309-681-6682; or email: cal.mather@ars.usda.gov.

Hard copies of the Draft EA are available upon request. Copies of the Draft EA for the USDA-ARS STARS Land Transfer are also available for public viewing during normal business hours at the following locations:

• Samuel H. Coleman Memorial Library (FAMU), 525 Orr Drive, Tallahassee, Florida 32307

• Istachatta Library Station, 16246 Lingle Road, Brooksville, Florida 34601

• East Hernando Branch Library, 6457 Windmere Road, Brooksville, Florida 34602

• Spring Hill Branch Library, 9220 Spring Hill Drive, Spring Hill, Florida 34608

• West Hernando Branch Library, 6335 Blackbird Avenue, Brooksville, Florida 34613

• Main Library/Brooksville, 238 Howell Avenue, Brooksville, Florida 34601

SUPPLEMENTARY INFORMATION: The USDA is proposing to transfer approximately 3,800 acres of land and facilities located on four separate properties at the USDA-ARS STARS in Brooksville, Florida to FAMU. In accordance with the March 1, 2014, Memorandum of Understanding (MOU) executed between the U.S. Government, represented by the Secretary of Agriculture, and the University Board of Trustees, upon transfer to FAMU, the land will be used for agricultural and natural resources research for a period of no less than 25 years, supporting the 1890 land grant university mission, promoting education and community collaboration, and establishing a Beginning Farmers and Ranchers Program at the Property. FAMU would assume responsibility for management and maintenance of the constructed facilities and land to be conveyed from USDA-ARS.

The USDA-ARS STARS was closed in accordance with Public Law (Pub. L.) 112-55, Consolidated and Further Continuing Appropriations Act, 2012. The proposed transfer of land and facilities from USDA-ARS to FAMU would be in accordance with Section 732 of Public Law 112-55, as extended under Public Law 113-76, 2014 Consolidated Appropriations Act, which authorizes the Secretary to convey, with or without consideration, certain USDA-ARS facilities to entities that are eligible to receive real property, including: Land-grant colleges and universities (as defined in Section 1404(13) of the National Agricultural Research, Extension, and Teaching Policy Act of 1977); 1994 Institutions (as defined in Section 532 of the Equity in Educational Land-Grant Status Act of 1994); and Hispanic-serving agricultural colleges and universities (as defined in Section 1404(10) of the National Agricultural Research, Extension, and Teaching Policy Act of 1977). Under Public Law 113-76, the conveyance authority expires on September 30, 2015, and all conveyances must be completed by that date.

Two alternatives are analyzed in the Draft EA, the Proposed Action Alternative and the No Action Alternative. The Draft EA addresses potential impacts of these alternatives on the natural and human environment.

• Alternative 1—Proposed Action. Under the proposed action alternative, the Secretary would transfer the USDA-ARS land and facilities to FAMU, and FAMU, its tenant(s), and/or its partner(s) would implement the Reasonably Foreseeable Future Actions described in the Draft EA upon transfer of the land and facilities. The land would be used for agricultural and natural resources research for a period of no less than 25 years.

• Alternative 2—No Action. Under the no action alternative, the USDA-ARS land and facilities would not be transferred to FAMU. Under the no action alternative, USDA-ARS would have no resources to operate and/or maintain the properties and the properties would fall into a state of disrepair.

In addition, one alternative was considered in the Draft EA but eliminated from detailed study. In this alternative, USDA-ARS would retain possession of the land and it would be transferred to the General Services Administration for disposal. Since it cannot reasonably be determined who would ultimately take possession of the property and how it would be utilized, it was not analyzed in detail in the EA. The USDA-ARS will use and coordinate the NEPA commenting process to satisfy the public involvement process for Section 106 of the National Historic Preservation Act (16 U.S.C. 470(f) as provided for in 36 CFR 800.2(d)(3)). Following the public comment period, comments will be used to prepare the Final EA. The USDA-ARS will respond to each substantive comment by making appropriate revisions to the document or by explaining why a comment did not warrant a change. A Notice of Availability of the Final EA will be published in the Federal Register. All comments, including any personal identifying information included in the comment will become a matter of public record. While you can ask us in your comment to withhold your personal identifying information from public review, we cannot guarantee that we will be able to do so.

Dated: February 18, 2015.
Chavonda Jacobs-Young,
Administrator, Agricultural Research Service.

[FR Doc. 2015-04302 Filed 2-27-15; 8:45 am]

BILLING CODE 3410-03-P